DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by the Peabody Museum of Archaeology and Ethnology professional staff in consultation with the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

In 1929, human remains representing two individuals from Stalling’s Island Mound, Columbia County, GA, were acquired by the Peabody Museum of Archaeology and Ethnology. These human remains were collected during a 1928-29 expedition sponsored by the Peabody Museum of Archaeology and Ethnology and led by Cornelius B. and Harriet S. Cosgrove with William Claflin. No known individuals were identified. No associated funerary objects are present.

This interment disturbed a previous burial, which contained a carved shell gorget that dates to the Hollywood phase of the Late Mississippian period (A.D. 1250-1450). Because this interment disturbed the previous burial, it is reasonably assumed that these human remains date to the Late Mississippian period (A.D. 1250-1450) or Protohistoric period (A.D. 1450-1650) and that the individuals are Native American. Oral traditions as well as ethnohistoric and archeological documentation support Stalling’s Island Mound as being within the aboriginal and historical homelands of the Creek, Miccosukkee, and Seminole peoples during the Hollywood phase of the Mississippian period. With the abandonment of the Stalling's Island settlement just prior to European contact, the population transferred to three distinct tribal towns on the mainland, Coweta, Hitchiti, and Kashita. The Hitchiti are recognized bands among the Miccosukee and Seminole today, and the towns were distinct entities within the Creek, Miccosukee, and Seminole peoples until recent times. These peoples are represented today by the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

In 1929, cultural items from Stalling’s Island Mound, Columbia County, GA, were acquired by the Peabody Museum of Archaeology and Ethnology. These objects, one large vessel with complicated stamped decorations and one plain bowl, were collected during a 1928-29 expedition sponsored by the Peabody Museum of Archaeology and Ethnology and led by Cornelius B. and Harriet S. Cosgrove with William Claflin.

Based on ceramic style, the vessels are dated to the Hollywood phase of the Late Mississippian period (A.D. 1250-1450). The vessels have been identified as associated funerary objects as defined in 43 CFR 10.2 (d)(2)(i) because, in museum documentation, the vessels are described as an urn burial and therefore were made to contain human remains. The burial context indicates that the burial was of a Native American. The Peabody Museum of Archaeology and Ethnology does not have possession or control of the human remains from this burial. Oral traditions as well as ethnohistoric and archeological documentation support Stalling’s Island Mound as being within the aboriginal and historical homelands of Creek, Seminole, and Miccosukee people during the Hollywood phase of the Late Mississippian period. With the abandonment of the Stalling's Island settlement just prior to European contact, the population transferred to three distinct tribal towns on the mainland, Coweta, Hitchiti, and Kashita. The Hitchiti are recognized bands among the Miccosukee and Seminole today, and the towns were distinct entities within the Creek, Miccosukee, and Seminole peoples until recent times. These peoples are represented today by the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

In 1985, cultural items from Stalling's Island Mound, Columbia County, GA, were donated to the Peabody Museum of Archaeology and Ethnology as part of the William Claflin Collection. These objects, a fragmentary vessel (represented by two sherds) with complicated stamped decorations and one plain bowl, were collected during a 1928-29 expedition sponsored by the Peabody Museum of Archaeology and Ethnology and led by Cornelius B. and Harriet S. Cosgrove with William Claflin.

Based on ceramic style, the vessels are dated to the Hollywood phase of the Late Mississippian period (A.D. 1250-1450). The vessels have been identified as associated funerary objects as defined in 43 CFR 10.2 (d)(2)(i) because, in museum documentation, the vessels are described as an urn burial and therefore were made to contain human remains. The burial context indicates that the burial was of a Native American. The Peabody Museum of Archaeology and Ethnology does not have possession or control of the human remains from this burial. Oral traditions as well as ethnohistoric and archeological documentation support Stalling’s Island Mound as being within the aboriginal and historical homelands of Creek, Seminole, and Miccosukee peoples during the Hollywood phase of the Late Mississippian period. With the abandonment of the Stalling's Island settlement just prior to European contact, the population transferred to three distinct tribal towns on the mainland, Coweta, Hitchiti, and Kashita. The Hitchiti are recognized bands among the Miccosukee and Seminole today, and the towns were distinct entities within the Creek, Miccosukee, and Seminole peoples until recent times. These peoples are represented today by the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

Based on the above-mentioned information, officials of the Peabody Museum of Archaeology and Ethnology have determined that, pursuant to 43 CFR 10.2 (d)(1), the human remains listed above represent the physical remains of two individuals of Native American ancestry. Officials of the Peabody Museum of Archaeology and Ethnology also have determined that, pursuant to 43 CFR 10.2 (d)(2)(i), the four objects listed above are reasonably believed to have been made to contain human remains. Lastly, officials of the Peabody Museum of Archaeology and Ethnology have determined that, pursuant to 43 CFR 10.2 (e), there is a relationship of shared group identity that can be reasonably traced between these Native American human remains and associated funerary objects and the Creek, Miccosukee, and Seminole peoples, who are represented by the following federally recognized groups: Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town.

This notice has been sent to officials of the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town. Representatives of any other Indian tribe that believes itself to be culturally affiliated with these human remains and associated funerary objects should contact Patricia Capone, Repatriation Coordinator, Peabody Museum of Archaeology and Ethnology, Harvard University, 11 Divinity Avenue, Cambridge, MA 02138, telephone (617) 496-3702, before November 8, 2001. Repatriation of the human remains and associated funerary objects to the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town may begin after that date if no additional claimants come forward.

Dated: July 18, 2001.
John Robbins,
Assistant Director, Cultural Resources Stewardship and Partnerships.

[FR Doc. 01-25143 Filed 10-5-01; 8:45 am]

BILLING CODE 4310-70-S